DEPARTMENT OF THE INTERIOR

Fish and Wildlife Service

Notice of Intent To Prepare an Environmental Impact Statement/Habitat Conservation Plan for a Permit Application to Incidentally Take the Endangered Indiana Bat and the Endangered Gray Bat on Indiana State Forests and O'Bannon Woods State Park in the State of Indiana

AGENCY: Fish and Wildlife Service, Interior, joint lead; Indiana DNR Division of Forestry, joint lead.

ACTION: Notice of intent to prepare an Environmental Impact Statement/Habitat Conservation Plan.

SUMMARY: The U.S. Fish and Wildlife Service (Service) is issuing this notice to advise the public that it intends to gather the information necessary to prepare an Environmental Impact Statement/Habitat Conservation Plan (EIS/HCP) regarding an application from the Indiana Department of Natural Resources (INDNR), Division of Forestry (DoF), Indianapolis, Indiana for an incidental take permit for two covered species pursuant to section 10(a)(1)(B) of the Endangered Species Act of 1973, as amended (Act). The permit would allow the incidental take primarily of the Indiana bat (Myotis sodalis), but also the gray bat (Myotis grisescens), on State Forests and O'Bannon Woods State Park in the State of Indiana. This notice describes the conservation plan (proposed action) and possible alternatives, invites public participation in the scoping process for preparing the EIS/HCP, and identifies the Service official to whom questions and comments concerning the proposed action may be directed.

DATES: Written comments should be received on or before July 27, 2005. No public scoping meetings are scheduled for this action.

ADDRESSES: Written comments should be submitted to Mr. Peter Fasbender, U.S. Fish and Wildlife Service, Ecological Services, 1 Federal Drive, Fort Snelling, Minnesota 55111-4056; via facsimile to: (612) 713-5292; or via e-mail to: permitsR3ES@fws.gov. Faxed copies should be followed by submission of a mailed copy to ensure the complete submission is received.

FOR FURTHER INFORMATION CONTACT: Mr. Peter Fasbender, (612) 713-5343.

SUPPLEMENTARY INFORMATION:

Background

On March 11, 1967, the Indiana bat was listed as an endangered species following establishment of the Endangered Species Preservation Act on October 15, 1966 (Act). The gray bat was listed as an endangered species on April 28, 1976. Because of these listings, the bats are protected by the Act's prohibition against “take.” The Act defines “take” to mean: to harass, harm, pursue, hunt, shoot, wound, kill, trap, capture, or collect, or attempt to engage in such conduct. “Harm” is further defined by regulation as any act that kills or injures wildlife including significant habitat modification or degradation where it actually kills or injures wildlife by significantly impairing essential behavior patterns, including breeding, foraging, or roosting (50 CFR 17.3). Of the numerous species of bats native to Indiana, the Indiana bat (Myotis sodalis) and the gray bat (Myotis grisescens) are the only two bat species that are designated as federally and state endangered.

By authority of the Endangered Species Act, the Service may issue permits to carry out prohibited or otherwise lawful activities involving endangered or threatened species under certain circumstances that may result in take. Regulations governing permits for endangered and threatened wildlife can be found at 50 CFR 17.22, 17.23, and 17.32.

The INDNR is preparing to apply to the Service for an incidental take permit pursuant to section 10(a)(1)(B) of the Act, which authorizes the issuance of incidental take permits to non-Federal landowners. The largest population of Indiana bats in the United States occurs in the State of Indiana (Clawson, R.L. 2002). This permit would authorize the incidental take of primarily the Indiana bat, along with the gray bat and possibly, associated threatened or endangered species addressed in the EIS/HCP, during the course of conducting otherwise lawful management activities on DoF land in the State of Indiana. Although public and private entities or individuals will participate in development of the EIS/HCP and may benefit by issuance of an incidental take permit, the INDNR has accepted the responsibility of coordinating preparation of the EIS/HCP and submission of the permit application for Service review and approval.

The Proposed Action

The action to be described in the EIS/HCP is a program that will ensure continued conservation of the Indiana and gray bats on DoF land in the State of Indiana, while resolving potential conflicts that may arise from otherwise lawful management activities that may involve this species and its habitat on non-Federal lands. The HCP project boundary includes public forest land owned by INDNR and managed by DoF and O'Bannon Woods State Park, owned by INDNR and managed by the Division of State Parks and Reservoirs. The DoF currently manages about 150,000 acres. This acreage constitutes about 3.4% of the state's forest lands and about 0.7% of the total state land base. The INDNR owns some of the larger contiguous forest parcels remaining in the state as well as several caves used as hibernacula by the Indiana bat. The environmental impacts that may result from implementation of a conservation program described in the EIS/HCP, or as a result of implementing other alternatives, will be evaluated and described in the EIS/HCP. The Service, INDNR, and other environmental consultants and entities are involved in the process of information gathering, development and preparation of the section 10(a)(1)(B) permit application, as well as formulating the combined EIS/HCP document.

Development of the EIS/HCP will involve a public process that includes review of NEPA documents and interagency coordination with other Federal and state agencies, counties, towns, industries, utilities, foresters, biologists, and representatives of various environmental and recreational use organizations. Conservation strategies to be applied on DoF land will differ depending on objectives and management activity. It is anticipated that implementation of conservation strategies will be through an Implementation Agreement (IA) or other cooperative agreement.

Alternatives

No Action Alternative

Under the No Action Alternative, no section 10(a)(1)(B) permit(s) would be issued and activities involving the take of the Indiana or gray bats on DoF land would remain prohibited under section 9 of the Act. Management activities currently in place to avoid a take of the Indiana or gray bats could continue. If a Federal action were proposed on DoF land that would affect either bat, incidental take could be obtained through the section 7 consultation process and development of an incidental take statement if the action were determined to not jeopardize the continued existence of the species. Under the No Action Alternative, the INDNR DoF would continue its operations and current management strategy according to the 2001 DoF Resource Management Strategy for Indiana bat on Indiana State Forests, and in compliance with interim guidance provided by the Service to avoid take. This strategy, developed voluntarily by the DoF as a management tool for State Forest managers, defines guidelines for protecting and enhancing Indiana and gray bat habitat on DoF land.

Proposed Action (EIS/HCP and Incidental Take Permit)

The proposed action alternative seeks to address continued management of habitat through maintenance and management schemes on all DoF lands in the State of Indiana. Completion of the EIS/HCP and issuance of the Take Permit will allow lawful forest management and recreational activities to continue while some anticipated take of Indiana or gray bats may occur. It will also provide guidance for appropriate forest management that will benefit the Indiana bat and other species of management concern within the context of the DoF's broader management mandates. Development of the HCP will provide for increased emphasis on Indiana bat habitat management, protection and maintenance of priority hibernacula, conservation strategies to assure an adequate supply of summer roosts, and an increase in the quality and quantity of foraging and maternity habitat within mixed forest communities.

The proposed action will address tree harvesting and best management practices for water quality on DoF land to assure compatibility with Indiana and gray bat management. Conservation strategies will be developed consistent with the Indiana Bat Recovery Plan. These strategies will be developed to be consistent with DoF obligations to provide for species of wildlife requiring early-, mid-, and late-successional habitats, as well as other multiple-use products and benefits. If science and conservation strategies evolve or demonstrate a need to change, INDNR would adapt or modify the conservation strategy as needed.

This alternative seeks authority for a long-term incidental take permit. The HCP will assure appropriate conservation measures as well as monitoring and reporting procedures, as required for issuance of an incidental take permit by the Service. Service involvement in developing this HCP and application for permit will assure land use and forest management practices that are consistent with the requirements of the Act. The goal of the HCP is also intended to provide a forest management example for private forest owners who control a majority of the Indiana and gray bat habitat in the State of Indiana.

Alternative 3

A third alternative may involve similar objectives and conservation strategies as those developed in the proposed action with an increased level of effort to maintain the oak-hickory forest component at current levels on DoF land. Management activities would favor oaks, hickories, and other shade intolerant and mid-tolerant tree species, many of which are preferred summer roost tree habitat. This alternative would provide a mixture of stand structures and developmental stages for foraging opportunities while maintaining an adequate number of suitable roost tree opportunities across the landscape. DoF would identify silvicultural practices and timber management activities that target achievement of a desired future condition of maintaining an oak-hickory forest component, on DoF managed lands, on an area equivalent to the area occupied by the oak-hickory component in 2005. Total regenerated openings would nearly double over that of the proposed action. Under this alternative the DoF would continue timber and recreation management activities under an amended Resource Management Strategy for Indiana and gray bat on Indiana State Forests. This action alternative may also include a section 10(a)(1)(B) permit application.

Issue Resolution and Environmental Review

The primary issue to be addressed during the scoping and planning process for the EIS and HCP is how to resolve potential conflicts between timber and recreation management practices and the endangered Indiana and gray bats and their habitat on DoF land in the State of Indiana. A tentative list of issues, concerns and opportunities has been developed. There will be a discussion of the potential effect, by alternative, which may include the following areas:

• Indiana bat and its habitat: summer maternity and individual males, spring staging, autumn swarming, and winter hibernacula

• Gray bat and its habitat: summer riparian areas, summer day roosting, and winter hibernacula

• Other federally listed endangered or threatened species on DoF land

• State listed endangered and threatened species on DoF land

• Game species

• Effects on other species of flora and fauna

• Best management practices and water quality

• Biological diversity of habitat

• Oak-hickory regeneration

• Socioeconomic effects

• Other conservation measures

• Use of state public lands for Indiana bat conservation

• Anticipated take of listed species

Environmental review of the permit application will be conducted in accordance with the requirements of the National Environmental Policy Act of 1969, as amended (42 U.S.C. 4321 et seq.), National Environmental Policy Act regulations (40 CFR parts 1500-1508), other appropriate Federal regulations, and Service procedures for compliance with those regulations. This notice is being furnished in accordance with § 1501.7 of the National Environmental Policy Act, to obtain suggestions and information from other agencies, tribes, and the public on the scope of issues to be addressed in the ESI/HCP.

Because preparation, approval, and implementation of the HCP are actions requiring environmental review, the INDNR and the Service agreed to prepare a single environmental document that would comply with the requirements of NEPA as well as other Federal and state regulations. Preparation of a joint document is intended to reduce paperwork and best utilize limited public resources while ensuring broad public involvement. Comments and participation in this scoping process are solicited.

The draft EIS/HCP is expected to be available to the public in the winter of 2005.

Authority: 42 U.S.C. 4321-4347; 40 CFR 1500-1508.

Dated: June 3, 2005.
Charlie Wooley,
Acting Regional Director, Region 3, Fort Snelling, Minnesota.

[FR Doc. 05-12638 Filed 6-24-05; 8:45 am]

BILLING CODE 4310-55-P